UNIFIED CARRIER REGISTRATION PLAN

Sunshine Act Meetings

TIME AND DATE: June 12, 2025, 10:00 a.m. to 1:00 p.m., AKDT (2:00 p.m. to 5:00 p.m. EDT)

PLACE: The meeting will take place at the Hilton Anchorage, 500 West Third Avenue, Anchorage, AK 99501. The meeting will also be accessible via conference call and via Zoom Meeting and Screenshare. Any interested person may call (i) 1-929-205-6099 (US Toll) or 1-669-900-6833 (US Toll), Meeting ID: 987 9046 1967, to listen and participate in this meeting. The website to participate via Zoom Meeting and Screenshare is https://kellen.zoom.us/meeting/register/A664sf4jS9OMITvgklQcEw.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

Board actions taken only in designated areas on the agenda

IV. Approval of Minutes of the March 6, 2025, UCR Board Meeting—UCR Board Chair

For Discussion and Possible Board Action

Draft Minutes from the March 6, 2025, UCR Board meeting will be reviewed. The Board will consider action to approve.

V. Report of FMCSA—FMCSA Representative

The Federal Motor Carrier Safety Administration (FMCSA) will provide a report on any relevant agency activity.

VI. Possible UCR Sanctions for Failure To Follow Board Policy

UCR Legal Counsel will present the findings of his research and lead a discussion on whether the Board may impose sanctions on a participating state for failure to meet Board-established requirements pertaining to audit initiatives or Board policies.

VII. State Audit Outsourcing—UCR Board Member Monte Wiederhold

UCR Board Member Monte Wiederhold will lead a discussion on the outsourcing of state auditing by the UCR Board.

VIII. Audit Results for Non-Participating and Audit Assistance Program States—Dave Lazarides, DSL Transportation Services, Inc.

Dave Lazarides of DSL Transportation Services, Inc., will discuss the efforts and results of the audits performed in non-participating and Audit Assistance Program states.

IX. Revolving Door Policy—UCR Board Member Ryan Nance

For Discussion and Possible Board Action

UCR Board Member Ryan Nance will lead a discussion regarding a proposal to the Board to adopt a revolving door policy. The Board may take action to adopt a revolving door policy.

X. Subcommittee Reports

Audit Subcommittee—UCR Audit Subcommittee Chair

2024 Annual State Audit Report to the Board

The UCR Audit Subcommittee Chair will present the 2024 Annual State Audit Report to the Board.

For Discussion and Possible Board Action

The UCR Audit Subcommittee Chair will review a 2024 Audit Snapshot along with the five requirement initiatives that each State is evaluated on. To receive qualifying status, States are required to have met or exceeded the minimum percentages in at least three of the five initiatives. In 2024, all participating States achieved a qualifying status. The Board may take action to approve the 2024 Annual State Audit Report.

Update on the Recent Question and Answer Session for State Auditors—UCR Audit Subcommittee Chair, UCR Audit Subcommittee Vice-Chair, and UCR Executive Director

The UCR Audit Subcommittee Chair, UCR Audit Subcommittee Vice-Chair, and UCR Executive Director will lead a discussion on the topics, value, and continuation of a series of 60-minute virtual question and answer sessions for state auditors.

Dispute Resolution Subcommittee—UCR Dispute Resolution Subcommittee Chair

No report.

Education and Training Subcommittee—UCR Education and Training Subcommittee Chair

The UCR Education and Training Subcommittee Chair will provide an update on key projects and initiatives, including the ongoing development of the learning management program and training modules, awareness and engagement efforts for various stakeholders, and the optimization of the website and newsletter.

Enforcement Subcommittee—UCR Enforcement Subcommittee Chair

The UCR Enforcement Subcommittee Chair will provide an update on current and planned initiatives, including efforts to enhance UCR enforcement efficiency, and recognition of states and inspectors.

Finance Subcommittee—UCR Finance Subcommittee Chair and UCR Depository Manager

A. UCR Administrative Fund and Registration Fees Update—UCR Depository Manager

The UCR Depository Manager will provide an update on the financial status of the administrative fund for the 3 months ended March 31, 2025. Additionally, the UCR Depository Manager will provide an update on revenues from the 2024 and 2025 registration fees, and the 2027 fee recommendation as it currently stands with current revenues, revenue projections, and assumptions.

B. Audit Update—UCR Finance Subcommittee Chair

The UCR Finance Subcommittee Chair will provide an update on the 2023 financial audit.

Industry Advisory Subcommittee—UCR Industry Advisory Subcommittee Chair

Industry Advisory Subcommittee Member Monte Wiederhold will lead a discussion on the following topics: (1) brokers refusing to load motor carriers without recent inspections; (2) brokers that refuse to load motor carriers that are not required to use ELDs; and (3) enforcement of 49 CFR 371.3 (Records Required to be Kept by Motor Carriers).

XI. Contractor Reports—UCR Board Chair

UCR Executive Director Update

The UCR Executive Director will provide a report covering his recent activity for the UCR Plan including any changes in the dates of UCR meetings in 2025.

UCR Administrator Update (Kellen)

The UCR Chief of Staff will provide a management update covering any additional activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

XII. Other Business—UCR Board Chair

The UCR Board Chair will call for any other business, old or new, from the floor.

XIII. Adjournment—UCR Board Chair

The UCR Board Chair will adjourn the meeting.

The agenda will be available no later than 5:00 p.m. Eastern daylight time, May 30, 2025, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-10062 Filed 5-29-25; 4:15 pm]

BILLING CODE 4910-YL-P